FEDERAL RESERVE SYSTEM

12 CFR Part 225

[Regulation Y]

Bank Holding Companies and Change in Bank Control

AGENCY: Board of Governors of the Federal Reserve System (Board).

ACTION: Final rule; correction.

SUMMARY: This correction amends a footnote reference in the text of 12 CFR part 225, Appendix A.

DATES: Effective on April 21, 2005.

FOR FURTHER INFORMATION CONTACT: John F. Connolly, Senior Supervisory Financial Analyst (202-452-3621 or john.f.connolly@frb.gov), Division of Banking Supervision and Regulation. For users of Telecommunications Device for the Deaf (TDD) only, contact 202-263-4869.

SUPPLEMENTARY INFORMATION:

In part 225, Appendix A, Section III, D.1.b., footnote reference 52 in the text should be redesignated as footnote reference 55. The correction reads as follows:

Appendix A to Part 225—Capital Adequacy Guidelines for Banking Holding Companies: Risk-Based Measure [Corrected]

III. * * *

D. * * *

1. * * *

b. * * * 55 * * *

By order of the Board of Governors of the Federal Reserve System, April 15, 2005.
Jennifer J. Johnson,
Secretary of the Board.

[FR Doc. 05-8020 Filed 4-20-05; 8:45 am]

BILLING CODE 6210-01-P